COMMITTEE FOR PURCHASE FROM PEOPLE WHO ARE BLIND OR SEVERELY DISABLED

Procurement List; Proposed Additions and Deletions

AGENCY: Committee for Purchase From People Who Are Blind or Severely Disabled.

ACTION: Proposed additions to and deletions from procurement list.

SUMMARY: The Committee is proposing to add to the Procurement List products and services to be furnished by nonprofit agencies employing persons who are blind or have other severe disabilities, and to delete products previously furnished by such agencies. Comments Must Be Received On or Before: January 26, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed additions, the entities of the Federal Government identified in this notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Large Format Inkjet Paper, 7530-00-NIB-0670.

NPA: Wiscraft Inc.—Wisconsin Enterprises for the Blind, Milwaukee, Wisconsin.

Contract Activity: Office Supplies & Paper Products Acquisition Center, New York, New York.

Product/NSN: Skilcraft Aerosol Cleaners, Clean “N” Disinfect/7930-00-NIB-0223, Glass Pro/7930-00-NIB-0191, Maximum/7930-00-NIB-0192, Office Plus/7930-00-NIB-0190, X-Spot Carpet Stain Remover/7930-00—NIB-0224.

NPA: Lighthouse for the Blind, St. Louis, Missouri.

Contract Activity: Office Supplies & Paper Products Acquisition Center, New York, New York.

Services

Service Type/Location: Janitorial/Custodial, Department of Veterans Affairs, Community Based Outpatient Clinic, Muskegon, Michigan.

NPA: Goodwill Industries of West Michigan, Inc., Muskegon, Michigan.

Contract Activity: Department of Veterans Affairs, Battle Creek, Michigan.

Service Type/Location: Janitorial/Custodial, Herbert Hoover Library, West Branch, Iowa.

NPA: Goodwill Industries of Southeast Iowa, Iowa City, Iowa.

Contract Activity: National Archives & Records Service, College Park, Maryland.

Service Type/Location: Janitorial/Custodial, Naval Reserve Center, La Crosse, Wisconsin.

NPA: Riverfront Activity Center, Inc., La Crosse, Wisconsin.

Contract Activity: Naval Facilities Engineering Command, Crane, Indiana.

Service Type/Location: Janitorial/Custodial, U.S. Army Corps of Engineers, Saylorville Lake Project, Johnston, Iowa.

NPA: Goodwill Solutions, Inc., Des Moines, Iowa.

Contract Activity: U.S. Army Corps of Engineers—Contracting Div, Rock Island, Illinois.

Service Type/Location: Janitorial/Custodial, VA Central Iowa Health Care System, Day Care Center, Des Moines, Iowa.

NPA: Goodwill Solutions, Inc., Des Moines, Iowa.

Contract Activity: VA Central Iowa Health Care System, Des Moines, Iowa.

Service Type/Location: Printer Toner Cartridge & Ribbons Management, Veterans Affairs Medical Center, Danville, Illinois.

NPA: Thresholds Rehabilitation Inc., Chicago, Illinois.

Contract Activity: Veterans Affairs Medical Center, Danville, Illinois.

Service Type/Location: Rehabilitation Support Services, Veteran's Industries, Central Arkansas Veteran's Healthcare System, Little Rock and North Little Rock, Arkansas.

NPA: Pathfinder, Inc., Jacksonville, Arkansas.

Contract Activity: Central Arkansas Veterans Healthcare System, North Little Rock, Arkansas.

Deletions

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for deletion from the Procurement List.

The following products have been proposed for deletion from the Procurement List:

Products

Product/NSN: Marker, Tube Type, Fine Tip

7520-00-051-5031

7520-00-051-5033

7520-00-051-5035

7520-00-051-5036

7520-00-116-2886

7520-00-116-2887

7520-00-116-2888

7520-00-116-2889

7520-00-935-0979

7520-00-935-0980

7520-00-935-0981

7520-00-935-0982

NPA: Winston-Salem Industries for the Blind, Winston-Salem, North Carolina.

Contract Activity: Office Supplies & Paper Products Acquisition Center, New York, New York.

Product/NSN: Pen, Essential LVX Translucent and refills

7510-01-454-1174

7510-01-454-1178

7510-01-454-1185

7510-01-454-1188

NPA: Industries for the Blind, Inc., Milwaukee, Wisconsin.

Contract Activity: Office Supplies & Paper Products Acquisition Center, New York, New York.

Product/NSN: Pen, Executive Fountain and refills

7520-01-451-2277

NPA: Industries for the Blind, Inc., Milwaukee, Wisconsin.

Contract Activity: Office Supplies & Paper Products Acquisition Center, New York, New York.

Product/NSN: Pen, Metal Barrel & Refills

7510-01-446-4835

7510-01-446-4845

7510-01-446-4846

7510-01-446-4850

NPA: Industries for the Blind, Inc., Milwaukee, Wisconsin.

Contract Activity: Office Supplies & Paper Products Acquisition Center, New York, New York.

Product/NSN: Refill, Ballpoint Pen

7510-00-754-2688

NPA: Industries for the Blind, Inc., Milwaukee, Wisconsin.

Contract Activity: Office Supplies & Paper Products Acquisition Center, New York, New York.

Sheryl D. Kennerly,
Director, Information Management.

[FR Doc. 02-32765 Filed 12-26-02; 8:45 am]

BILLING CODE 6353-01-P